FEDERAL COMMUNICATIONS COMMISSION

47 CFR Part 2

[WT Docket No. 10-4; FCC 13-21]

Signal Booster Rules

AGENCY: Federal Communications Commission.

ACTION: Final rule; correcting amendment.

SUMMARY: The Federal Communications Commission published in the Federal Register of 78 FR 21555, April 11, 2013, a document in the Signal Boosters proceeding, WT Docket No. 10-4, which included Final Rules that reflected the amendments adopted of certain rules. This document corrects the amendment of one of those sections.

DATES: Effective May 17, 2013.

FOR FURTHER INFORMATION CONTACT: Joyce Jones, Mobility Division, Wireless Telecommunications Bureau, (202) 418-1327, TTY (202) 418-7233.

SUPPLEMENTARY INFORMATION: The Federal Communications Commission published a document in the Federal Register of 78 FR 21555, April 11, 2013 regarding certain FCC rules governing radiofrequency radiation exposure evaluation for mobile devices. The document amended a number of FCC rules concerning signal boosters for consumer and industrial use. This document corrects a certain rule in the document published in the Federal Register of 78 FR 21555, April 11, 2013. This document does not change any of the other rule amendments set forth in the document published in the Federal Register of 78 FR 21555, April 11, 2013.

List of Subjects in 47 CFR part 2

Frequency allocations and radio treaty matters; general rules and regulations.

Federal Communications Commission.
Marlene H. Dortch,
Secretary.

Rule Changes

Accordingly, 47 CFR part 2 is corrected by making the following correcting amendments:

PART 2—FREQUENCY ALLOCATIONS AND RADIO TREATY MATTERS; GENERAL RULES AND REGULATIONS

1. The authority citation for part 2 continues to read as follows:

Authority: 47 U.S.C. 154, 302A, 303, and 336, unless otherwise noted.

2. Section 2.1091 is amended by revising the first sentence in paragraph (c) to read as follows:

§ 2.1091 Radiofrequency radiation exposure evaluation: mobile devices.

* * * * *

(c) Mobile devices that operate in the Commercial Mobile Radio Services pursuant to part 20 of this chapter; the Cellular Radiotelephone Service pursuant to part 22 of this chapter; the Personal Communications Services pursuant to part 24 of this chapter; the Satellite Communications Services pursuant to part 25 of this chapter; the Miscellaneous Wireless Communications Services pursuant to part 27 of this chapter; the Maritime Services (ship earth station devices only) pursuant to part 80 of this chapter; and the Specialized Mobile Radio Service, and the 3650 MHz Wireless Broadband Service pursuant to part 90 of this chapter are subject to routine environmental evaluation for RF exposure prior to equipment authorization or use if they operate at frequencies of 1.5 GHz or below and their effective radiated power (ERP) is 1.5 watts or more, or if they operate at frequencies above 1.5 GHz and their ERP is 3 watts or more. * * *

* * * * *

[FR Doc. 2013-11444 Filed 5-16-13; 8:45 am]

BILLING CODE 6712-01-P